ENVIRONMENTAL PROTECTION AGENCY

[FRL-6946-9]

Agency Information Collection: Activities Up for Renewal; Regulations for A Voluntary Emissions Standards Program Applicable to Manufacturers of Light-Duty Vehicles and Trucks Beginning in Model Year 1997

AGENCY: Environmental Protection Agency (EPA).

ACTION: Notice.

SUMMARY: In compliance with the Paperwork Reduction Act (44 U.S.C. 3501 et seq.), this notice announces that EPA is planning to submit the following continuing Information Collection request (ICR) to the Office of Management and Budget (OMB): Regulations for a Voluntary: Emissions Standards Program Applicable to Manufacturers of Light-Duty Vehicles and Trucks Beginning in Model Year 1997 (OMB #2060-0345, approved through 04/30/01). Before submitting the ICR to OMB for review and approval, EPA is soliciting comments on specific aspects of the collections as described below.

DATES: Comments must be submitted on or before April 23, 2001.

ADDRESSES: U.S. Environmental Protection Agency, Office of Transportation and Air Quality, Certification and Compliance Division, Outreach and Planning Group, Ariel Rios Building, 1200 Pennsylvania Avenue, NW., Mail Code 6405J, Washington, D.C. 20460. Interested persons may request a copy of the ICR without charge from the contact person below.

FOR FURTHER INFORMATION CONTACT: Chestine Payton, tel.: (202) 564-9328, fax (202) 565-2057. E-mail address: payton.chestine@epa.gov.

SUPPLEMENTARY INFORMATION:

Affected Entities: Parties potentially affected by this action are manufacturers of light duty vehicles and light duty trucks.

Title: Regulations for A Voluntary Emissions Standards Program Applicable to Manufacturers of Light-Duty Vehicles and Trucks Beginning in Model Year 1997, OMB 2060-0345, Expiration date 01/31/01.

Abstract: The information collection will be conducted to support averaging, banking, and trading provisions included in the National Low Emission Vehicle (NLEV) program. These averaging, banking, and trading provisions will give the automobile manufacturers a measure of flexibility in meeting the fleet average non-methane organic gas (NMOG) standards and the five-percent cap on Tier 1 vehicles and transitional low emission vehicles (TLEVs) in the ozone transport region (OTR). EPA will use the reported data to calculate credits and debits and otherwise ensure compliance with the applicable production levels and emissions standards. When a manufacturer has opted into the Voluntary National LEV program, reporting will be mandatory.

Manufacturers would submit information regarding the annual sales, calculation, generation, and usage of emission credits in an annual report. In addition, upon transferring credits to another manufacturer, the manufacturer would submit this information along with their annual report. This information will be submitted to EPA in annual reports and will involve approximately 25 respondents at a total annual cost of about $318,995.

EPA currently has in place an ICR and clearance for annual sales/production reporting for light-duty vehicles and trucks. This ICR reflects additional requirements (beyond the annual sales/production reporting requirement) to collate the annual sales/production data, and implement the credit calculation program. In the future, this ICR will be integrated with ICR 783.39, (Reporting and Recordingkeeping Requirements for Motor Vehicle Certification under the Proposed Tier 2 Rule), as part of the consolidation under the certification and fuel program reporting requirements.

The information collection activity complies with the guidelines in 5 CFR 1320.6 except for the following:

First, to provide EPA with a mechanism for auditing the accuracy of these required reports, EPA will require pertinent production information to be maintained and kept for eight model years. The eight-year requirement arises from the phase-in periods and the fact that credits have a four-model year lifetime. EPA enforcement action regarding the credit program could require documentation justifying credit or debit generation from the beginning of the phase-in and/or four-year credit lifetime period. Pertinent production information includes, but is not limited to, the number of vehicles or trucks sold in each averaging set, the EPA engine family, assembly plant, VIN number, and the NMOG standard to which the vehicle or truck is certified. Pertinent information, whether kept by the manufacturer or by a contractor, is subject to auditing by EPA. Consequently, EPA officials will require voluntary entry and access to facilities.

The EPA would like to solicit comments to:

(i) Evaluate whether the proposed collection of information is necessary for the proper performance of the functions of the Agency, including whether the information will have practical utility;

(ii) Evaluate the accuracy of the agency's estimate of the burden of the proposed collection of information;

(iii) Enhance the quality, utility, and clarity of the information to be collected; and

(iv) Minimize the burden of the collection of information on those who are to respond, including through the use of appropriate automated collection techniques or other forms of information technology, e.g., permitting electronic submission of responses.

Burden Statement: The estimated annual burden attributed to the collection in this ICR is 241.3 hours for each of the 25 potential respondents. Burden means the total time, effort, or financial resources expended by persons to generate, maintain, retain, or disclose or provide information to or for a federal agency. This includes the time needed to review instructions; develop, acquire, install, and utilize technology and systems for the purpose of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Parties potentially affected by this action are manufacturers of light-duty vehicles and light-duty trucks.

Estimated Number of Respondents: 25.

Frequency of Response: Annually.

Estimated Total Annual Hour Burden Per Respondent: 241.3.

Estimated Total Annualized Cost Burden Per Respondent: $12,759.80.

Send comments on the Agency's need for this information, the accuracy of the provided burden estimates, and any suggested methods for minimizing respondent burden, including through the use of automated collection techniques to the addresses listed above. Please refer to EPA ICR No. 1761.02 and OMB Control No. 2060-0345 in any correspondence.

Dated: February 14, 2001.
Robert D. Brenner,
Acting Assistant Administrator.

[FR Doc. 01-4270 Filed 2-20-01; 8:45 am]

BILLING CODE 6560-50-U